FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010714-047.

Title: Trans-Atlantic American Flag Liner Operators Agreement.

Parties: American President Lines, Ltd.; American Roll-On Roll-Off Carrier, LLC; Hapag-Lloyd USA, LLC.; and Maersk Line A/S.

Filing Party: Howard A. Levy, Esq.; 80 Wall Street, Suite 1117; New York, NY 10005.

Synopsis: The amendment updates the addresses for Hapag-Lloyd and American Roll-On Roll-Off.

Agreement No.: 011284-074.

Title: Ocean Carrier Equipment Management Association Agreement.

Parties: Alianca Navegacao e Logistica Ltda.; APL Co. Pte Ltd.; American President Lines, Ltd.; CMA CGM, S.A.; Atlantic Container Line; China Shipping Container Lines Co., Ltd; China Shipping Container Lines (Hong Kong) Co., Ltd.; COSCO Container Lines Company Limited; Evergreen Line Joint Service Agreement; Hamburg-Süd; Hapag-Lloyd AG; Hapag-Lloyd USA LLC; Hyundai Merchant Marine Co., Ltd.; Kawasaki Kisen Kaisha, Ltd.; Maersk Line A/S; Mediterranean Shipping Company, S.A.; Mitsui O.S.K. Lines, Ltd.; Nippon Yusen Kaisha Line; Orient Overseas Container Line Limited; Yang Ming Marine Transport Corp.; and Zim Integrated Shipping Services.

Filing Party: Jeffrey F, Lawrence, Esq. and Donald J. Kassilke, Esq.; Cozen O'Connor; 1627 I Street NW., Suite 1100; Washington, DC 20006.

Synopsis: The Amendment deletes Hanjin Shipping Co., Ltd.; Compania Sud Americana de Vapores, SA.; Companhia Libra de Navegacao; Compania Libra de Navigacion Uruguay S.A.; and Norasia Container Lines Limited as parties to the Agreement.

By Order of the Federal Maritime Commission.
Dated: October 16, 2015.
Karen V. Gregory,
Secretary.

[FR Doc. 2015-26761 Filed 10-20-15; 8:45 am]

BILLING CODE 6731-AA-P